DEPARTMENT OF STATE

[Public Notice 4535]

United States International Telecommunication Advisory Committee Meeting-Radiocommunication Sector (ITAC-R)

The Department of State announces meetings of the ITAC-R. The purpose of the Committee is to advise the Department on matters related to telecommunication and information policy matters in preparation for international meetings pertaining to telecommunication and information issues.

The ITAC-R will meet to discuss the matters related to the meeting of the ITU Council's Ad Hoc Group on Cost Recovery for Satellite Network Filings that will take place 24-26 February 2004 in Geneva, Switzerland. ITAC-R meetings will be convened on 15 January, 28 January, and 12 February 2004 from 1:30 to 4 p.m. in Room 7 South (7B516) at the Federal Communications Commission (FCC). The FCC is located at 445 12th Street, SW., Washington, DC.

Members of the public will be admitted to the extent that seating is available and may join in the discussions subject to the instructions of the Chair. Entrance to the FCC is controlled. Persons planning to attend the meeting should arrive early enough to complete the entry procedure. One of the following current photo identifications must be presented to gain entrance to the FCC: U.S. driver's license with your photo on it, U.S. passport, or U.S. Government identification. Directions to the FCC may be obtained by calling the ITAC Secretariat at 202-647-2592 or e-mailing to worsleydm@state.gov.

Dated: December 30, 2003.
Douglas R. Spalt,
Electronics Engineer, Department of State.

[FR Doc. 04-64 Filed 1-2-04; 8:45 am]

BILLING CODE 4710-45-P